NATIONAL AERONAUTICS AND SPACE ADMINISTRATION

48 CFR Parts 1804, 1812 and 1852

Central Contractor Registration (CCR)

AGENCY: National Aeronautics and Space Administration (NASA).

ACTION: Final rule.

SUMMARY: This final rule amends the NASA FAR Supplement (NFS) to include a requirement for vendors and contractors to register through the DoD Central Contractor Registration (CCR) System.

EFFECTIVE DATE: August 17, 2000.

FOR FURTHER INFORMATION CONTACT: Barbara Cephas, (202) 358-0465, or bcephas@hq.nasa.gov.

SUPPLEMENTARY INFORMATION:

A. Background

NASA is in the process of converting to a new Agency-wide accounting software system. To assist with data conversion to the new system, NASA has selected the DoD CCR system for its data conversion baseline. When a vendor registers in CCR, they are assigned a Commercial and Government Entity Code (CAGE) Code, which is the tool NASA has chosen for data conversion to its new accounting software system. This CAGE code number can only be obtained when a vendor registers in the DoD CCR System.

A proposed rule was published in the Federal Register on October 6, 1999 (64 FR 54270-72). NASA received no public comments on the proposed rule. This final rule adopts the proposed rule with a change to establish an implementation date.

B. Regulatory Flexibility Act

NASA certifies that this rule will not have a significant economic impact on a substantial number of small entities within the meaning of the Regulatory Flexibility Act, 5 U.S.C. 601 et seq., because an estimated two thirds of NASA vendors are already registered in the Defense Logistics Agency/Defense Logistics Information Service (DLA/DLIS) CCR System.

C. Paperwork Reduction Act

An Office of Management and Budget (OMB) approval for data collection has been approved under OMB Control Number 2700-0097.

List of Subjects in 48 CFR Parts 1804, 1812, 1852

Government Procurement.

James A. Balinskas,
Acting Associate Administrator for Procurement.

Accordingly, 48 CFR parts 1804, 1812, and 1852 are amended as follows:

1. The authority citation for 48 CFR parts 1804, 1812, and 1852 continues to read as follows:

Authority: 42 U.S.C. 2473(c)(1).

PART 1804—ADMINISTRATIVE MATTERS

2. Subpart 1804.74 is added to read as follows:

Subpart 1804.74—Central Contractor Registration
1804.7400 Scope.
1804.7401 Definitions.
1804.7402 Policy.
1804.7403 Procedures.
1804.7404 Solicitation provisions and contract clauses.

Authority: 42 U.S.C. 2473(c)(1).

Subpart 1804.74—Central Contractor Registration

1804.7400 Scope.

This subpart prescribes policies and procedures for requiring contractor registration in the DoD Central Contractor Registration (CCR) database.

1804.7401 Definitions.

“Central Contractor Registration (CCR) database,” “Data Universal Numbering System (DUNS) number,” “Data Universal Numbering System+4 (DUNS+4) number,” “Commercial and Government Entity (CAGE) Code,” and “Registered in the CCR database” are defined in the clause at 1852.204-74, Central Contractor Registration.

1804.7402 Policy.

Prospective contractors must be registered in the CCR database, prior to any award of a contract, purchase order, basic agreement, basic ordering agreement, or blanket purchase agreement after March 31, 2001. This policy applies to all types of awards except the following:

(a) Purchases made with a Government-wide commercial purchase card.

(b) Awards made to foreign vendors for work performed outside of the United States.

(c) Purchases under FAR 6.302-2, Unusual and Compelling Urgency.

1804.7403 Procedures.

(a)(1) The contracting officer must verify that the prospective awardee is registered in the CCR database using either the Cage Code, DUNS number or, if applicable, the DUNS+4 number, via the Internet at http://www.ccr2000.com or by calling toll free: 888-CCR-2423 (888-227-2423), commercial: 616-961-5757.

(2) Verification of registration is not required for orders or calls placed under contracts, basic agreements, basic ordering agreements, or blanket purchase agreements in which vendor registration was verified at the time of award of the contract or agreement.

(b) If the contracting officer determines that a prospective awardee is not registered in the CCR database after March 31, 2001, the contracting officer must—

(1) If delaying the acquisition would not be to the detriment of the Government, proceed to award after the contractor is registered;

(2) If delaying the acquisition would be to the detriment of the Government, proceed to award to the next otherwise successful registered offeror, with the written approval of the Procurement Officer; or

(3) If the offer results from an invitation for bids, determine the offer to be non-responsive and proceed to award to the next otherwise successful registered offeror.

(c) The contracting officer must protect against improper disclosure of contractor CCR information.

1804.7404 Solicitation provisions and contract clauses.

Except as provided in 1804.7402, the contracting officer must use the clause at 1852.204-74, Central Contractor Registration, in all solicitations and contracts, including those for commercial items.

PART 1812—ACQUISITION OF COMMERCIAL ITEMS

3. In section 1812.301, paragraphs (f)(i)(A) through (M) are redesignated as (f)(i)(B) through (N) and a new paragraph ((f)(i)(A) is added to read as follows:

1812.301 Solicitation provisions and contract clauses for the acquisition of commercial items.

(f)(i) * * *

(A) 1852.204-74, Central Contractor Registration.

* * * * *

PART 1852—SOLICITATION PROVISIONS AND CONTRACT CLAUSES

4. Section 1852.204-74 is added to read as follows:

1852.204-74 Central Contractor Registration.

As prescribed in 1804.7404, insert the following clause:

Central Contractor Registration

August 2000

(a) Definitions. As used in this clause—

(1) “Central Contractor Registration (CCR) database” means the primary DoD repository for contractor information required for the conduct of business with NASA.

(2) “Data Universal Number System (DUNS) number” means the 9-digit number assigned by Dun and Bradstreet Information Services to identify unique business entities.

(3) “Data Universal Numbering System +4 (DUNS+4) number” means the DUNS number assigned by Dun and Bradstreet plus a 4-digit suffix that may be assigned by a parent (controlling) business concern. This 4-digit suffix may be assigned at the discretion of the parent business concern for such purposes as identifying sub-units or affiliates of the parent business concern.

(4) “Commercial Government and Entity Code (CAGE Code)” means—

(i) A code assigned by the Defense Logistics Information Service (DLIS) to identify a commercial or Government entity; or

(ii) A code assigned by a member of the North Atlantic Treaty Organization (NATO) that is recorded and maintained by DLIS in the CAGE master file.

(5) “Registered in the CCR database” means that all mandatory information, including the DUNS number or the DUNS+4 number, if applicable, and the corresponding CAGE code, is in the CCR database; the DUNS number and the CAGE code have been validated; and all edits have been successfully completed.

(b)(1) By submission of an offer, the offeror acknowledges the requirement that a prospective awardee must be registered in the CCR database prior to award, during performance, and through final payment of any contract resulting from this solicitation, except for awards to foreign vendors performing work outside of the United States.

(2) The Contracting Officer will verify that the offeror is registered in the CCR database.

(3) Lack of registration in the CCR database will make an offeror ineligible for award after March 31, 2001.

(4) DoD has established a goal of registering an applicant in the CCR database within 48 hours after receipt of a complete and accurate application via the Internet. However, registration of an applicant submitting an application through a method other than the Internet may take up to 30 days. Therefore, offerors that are not registered should consider applying for registration immediately upon receipt of this solicitation.

(c) The Contractor is responsible for the accuracy and completeness of the data within the CCR, and for any liability resulting from the Government's reliance on inaccurate or incomplete data. To remain registered in the CCR database after the initial registration, the Contractor is required to confirm on an annual basis that its information in the CCR database is accurate and complete.

(d) Offerors and contractors may obtain information on registration and annual confirmation requirements via the Internet at http://www.ccr2000.com or by calling 888-CCR-2423 (888-227-2423).

(End of clause)

[FR Doc. 00-20989 Filed 8-16-00; 8:45 am]

BILLING CODE 7510-01-P